DEPARTMENT OF TRANSPORTATION

Federal Aviation Administration

Notice of Submission Deadline for International Slots for the Summer 2005 Scheduling Season

AGENCY: Department of Transportation, FAA.

ACTION: Notice of submission deadline.

SUMMARY: This notice announces that the deadline for submitting requests for international slots at John F. Kennedy International Airport for allocation under 14 CFR 93.217 is October 25, 2004. Additionally, this notice announces that the FAA is changing the designation of Chicago O'Hare International Airport to a Schedules Facilitated Airport for all international arrivals for the Summer 2005 scheduling season.

DATES: Requests for international slots must be submitted no later than October 25, 2004.

ADDRESSES: Requests may be submitted by mail to Slot Administration Office, AGC-220 Office of the Chief Counsel, 800 Independence Ave., SW., Washington, DC 20591; facsimile: 202-267-7277; ARINC: DCAYAXD; e-mail address: 7-AWA-slotadmin@faa.gov.

FOR FURTHER INFORMATION CONTACT: Lorelei Peter, Air Traffic and Operations Law Branch, Regulations Division, Office of the Chief Counsel, Federal Administration, 800 Independence Avenue, SW., Washington, DC 20591; telephone number: 202-267-3073.

SUPPLEMENTARY INFORMATION: On October 1, 1999, the FAA amended the regulations governing takeoff and landing slots and slot allocation procedures at certain high Density Traffic Airports to provide the deadline for submission of requests for international slots will be published in a Federal Register notice for each scheduling season. The purpose of the amendment is for the FAA deadline for international slots requests to coincide with the International Air Transport Association deadline for submission of international requests. In accordance with this amendment, the FAA announces that the deadline for submitting requests for international slots for allocation under 14 CFR 93.217 is October 25, 2004.

In August 2004, the FAA took steps to address the congestion and delays at O'Hare as a result of persistent overscheduling of flights at O'Hare during peak hours. The FAA established a temporary limit on the number of scheduled arrivals at O'Hare by domestic operators during the peak hours of 7 a.m. through 8:59 p.m. beginning November 1, 2004, through April 30, 2005. While the FAA order limiting these operations did not include a limit on international flights by foreign flag operators, the FAA believes that it is beneficial to work with requesting carriers to accommodate their operations but to avoid capacity problems to the greatest extent practicable. To facilitate this process, the FAA is designating O'Hare as a Schedules Facilitated Airport, Level 2 (SFA) for Air Traffic Control/runway movements, as specified under the International Air Transport Association (IATA) Worldwide Scheduling Guidelines. (We note that IATA already lists O'hare as an SFA/Level 2 airport for international passenger flights at Terminal 5.) As an SFA, carriers operating to or intending to operate to this airport should submit their proposed schedules to the FAA in advance, so that voluntary solutions to capacity issues can be addressed. The FAA could request carriers to consider scheduling operations at less congested periods, as necessary. Carriers should provide their schedules to the Slot Administration Office using one of the various addresses provided in the ADDRESSES section above. The FAA will review all submitted schedules and individually advise carriers that there is capacity available to accommodate the operations or to request the carriers to schedule in less congested time periods.

Issued in Washington, DC on October 6, 2004.
Andrew B. Steinberg,
Chief Counsel.

[FR Doc. 04-22948 Filed 10-12-04; 8:45 am]

BILLING CODE 4910-13-M